DEPARTMENT OF ENERGY

Federal Energy Regulatory Commission

[Project No. 14376-001]

Cave Run Energy, LLC; Notice of Intent To File License Application, Filing of Pre-Application Document, and Approving Use of the Traditional Licensing Process

a. Type of Filing: Notice of Intent to File License Application and Request to Use the Traditional Licensing Process.

b. Project No.: 14376-001.

c. Date Filed: July 21, 2013.

d. Submitted By: Cave Run Energy, LLC.

e. Name of Project: Cave Run Hydroelectric Project.

f. Location: On the Licking River, in Rowan and Bath counties, Kentucky. The proposed project would occupy United States lands administered by the U.S. Army Corps of Engineers.

g. Filed Pursuant to: 18 CFR 5.3 of the Commission's regulations.

h. Potential Applicant Contact: Mark Boumansour, Cave Run Energy, LLC, 1401 Walnut St, Suite 301, Boulder, CO 80302; (303) 440-3378; email—mark@gravityrenewables.com.

i. FERC Contact: Adam Peer at (202) 502-8449; or email at adam.peer@ferc.gov.

j. Cave Run Energy, LLC filed its request to use the Traditional Licensing Process on July 21, 2013. Cave Run Energy, LLC provided public notice of its request on July 26, 2013. In a letter dated September 19, 2013, the Director of the Division of Hydropower Licensing approved Cave Run Energy, LLC's request to use the Traditional Licensing Process.

k. With this notice, we are initiating informal consultation with: (a) The U.S. Fish and Wildlife Service under section 7 of the Endangered Species Act and the joint agency regulations thereunder at 50 CFR, Part 402; and (b) the Kentucky State Historic Preservation Officer, as required by section 106, National Historical Preservation Act, and the implementing regulations of the Advisory Council on Historic Preservation at 36 CFR 800.2.

l. With this notice, we are designating Cave Run Energy, LLC as the Commission's non-federal representative for carrying out informal consultation, pursuant to section 7 of the Endangered Species Act, and section 106 of the National Historic Preservation Act.

m. Cave Run Energy, LLC filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: September 19, 2013.
Kimberly D. Bose,
Secretary.

[FR Doc. 2013-23709 Filed 9-27-13; 8:45 am]

BILLING CODE 6717-01-P